DEPARTMENT OF THE INTERIOR

Fish and Wildlife Service

Notice of Availability of the Draft Environmental Impact Statement for Caspian Tern Management To Reduce Predation of Juvenile Salmonids in the Columbia River Estuary

AGENCY: Fish and Wildlife Service, Interior.

ACTION: Notice of Availability.

SUMMARY: The U.S. Fish and Wildlife Service (Service) announces that the Draft Environmental Impact Statement (Draft EIS) for Caspian Tern (Sterna caspia) Management to Reduce Predation of Juvenile Salmonids in the Columbia River Estuary is available for review and comment. This Draft EIS was prepared pursuant to the National Environmental Policy Act of 1969, as amended (NEPA) and evaluates the environmental impacts of the proposed action of redistributing the Caspian tern colony on East Sand Island, Columbia River estuary, and reasonable alternatives. The U.S. Army Corps of Engineers (Corps) and National Marine Fisheries Service (NOAA Fisheries) are cooperating agencies in the preparation of this Draft EIS.

DATES: Written comments must be received no later than 5 p.m. pacific time on September 21, 2004. Interested parties may contact the Service for more information at the address below.

ADDRESSES: Address comments, requests for copies, or more information related to the Draft EIS to: Nanette Seto, Migratory Birds and Habitat Programs, 911 NE. 11th Avenue, Portland, OR 97232, telephone (503) 231-6164, facsimile (503) 231-2019 or cateeis@r1.fws.gov.

FOR FURTHER INFORMATION CONTACT: Nanette Seto or Tara Zimmerman, Migratory Birds and Habitat Programs, 911 NE 11th Avenue, Portland, OR 97232, telephone (503) 231-6164, facsimile (503) 231-2019.

SUPPLEMENTARY INFORMATION: Copies of the Draft EIS will be available for viewing and downloading online at:

1. http://migratorybirds.pacific.fws.gov/CATE.htm,

2. http://www.nwp.usace.army.mil/pm/e/, and

3. http://nwr.noaa.gov

Printed documents will also be available for review at the following libraries:

1. North Olympic Library System, Port Angeles Branch, Port Angeles, WA,

2. North Olympic Library System, Sequim Branch, Sequim, WA,

3. Astoria Public Library, Astoria, OR,

4. Multnomah County Central Library, Portland, OR,

5. Eugene Public Library, Eugene, OR,

6. Lake County Library, Lakeview, OR,

7. San Francisco Public Library, San Francisco, CA, and

8. Oakland Main Public Library, Oakland, CA.

Copies of the Draft EIS may be obtained by writing to U.S. Fish and Wildlife Service, Migratory Birds and Habitat Programs, Attn: Nanette Seto, 911 NE. 11th Avenue, Portland, OR 97232.

Background

Recent increases in the number of Caspian terns nesting in the Columbia River estuary, Oregon, have led to concerns over their potential impact on the recovery of threatened and endangered Columbia River salmon. In 1999, the Corps initiated a pilot project to relocate a large tern colony from Rice Island to East Sand Island, near the mouth of the estuary, where more marine fish are abundant, for the purpose of reducing tern predation on juvenile salmonids.

In 2000, Seattle Audubon, National Audubon, American Bird Conservancy, and Defenders of Wildlife filed a lawsuit against the Corps alleging that compliance with NEPA for the proposed action of relocating the large colony of Caspian terns from Rice Island to East Sand Island was insufficient, and against the Service in objection to the potential take of eggs as a means to prevent nesting on Rice Island. In 2002, all parties reached a settlement agreement. The settlement agreement stipulates that the Service, Corps, and NOAA Fisheries prepare an EIS to address Caspian tern management in the Columbia River estuary and juvenile salmonid predation.

In the April 7, 2003 Federal Register (68 FR 16826), the Service published a Notice of Intent (NOI) to prepare an EIS for the proposed project. The NOI informed the public of the proposed scope of the EIS, solicited public participation in the scoping process, and announced public scoping meetings that were held in Washington, Oregon, and California in April and May 2003. The public scoping period closed on May 22, 2003. Comments received during the public scoping process were used in preparing the Draft EIS.

Purpose of and Need for Action

The purpose of the proposed action is to comply with the 2002 Settlement Agreement by identifying a management plan for Caspian terns in the Columbia River estuary that reduces resource management conflicts with ESA-listed salmonids while ensuring the conservation of Caspian terns in the Pacific Coast/Western region.

Alternatives Considered

The four alternatives considered in the Draft EIS are briefly described below, followed by features common to all alternatives.

Alternative A, the “No Action” alternative, assumes no change from the current management program on East Sand Island and is the baseline from which to compare the other alternatives. Under this alternative, six acres of nesting habitat would be prepared annually for Caspian terns on East Sand Island.

Alternative B would provide no management actions on East Sand Island. No habitat would be prepared for Caspian terns, most likely resulting in the elimination of tern nesting habitat on East Sand Island within 3 years.

Alternative C (Preferred Alternative) would reduce tern predation on juvenile salmonids in the Columbia River estuary by redistributing the tern colony on East Sand Island throughout the Pacific Coast/Western region. This would be achieved by reducing the tern nesting site on East Sand Island to approximately 1 to 1.5 acres and managing sites in Washington, Oregon, and California specifically for displaced Caspian terns. Potential management sites considered in this alternative include Dungeness National Wildlife Refuge, Washington; Summer, Crump, and Fern Ridge lakes, Oregon; and San Francisco Bay (three sites), California.

Alternative D would also reduce tern predation on juvenile salmonids by redistributing the tern colony on East Sand Island as proposed in Alternative C, with the only difference being implementation of a lethal control program if the redistribution efforts described in Alternative C are not successful in reducing the number of nesting terns on East Sand Island.

Action Common to All Alternatives

The following components are proposed to be implemented under all alternatives (A through D): (1) The Corps would continue efforts, such as hazing, to prevent Caspian tern nesting on upper estuary islands (e.g., Rice Island, Miller Sands Spit, Pillar Rock Island) of the Columbia River estuary to prevent high tern predation rates of juvenile salmonids and comply with the 1999 Corps Columbia River Channel Operation and Maintenance Program Biological Opinion; (2) the Service would issue an egg take permit to the Corps for upper estuary islands (not including East Sand Island) if the efforts to prevent tern nesting at these sites fail; and (3) the Corps would resume dredged material (e.g., sand) disposal on the downstream end of Rice Island, on the former Caspian tern nesting site.

Public Comments

Comments and materials received will be available for public inspection, by appointment, during normal business hours, at the above address. All comments received from individuals on Environmental Impact Statements become part of the official public record. Requests for such comments will be handled in accordance with the Freedom of Information Act, the Council on Environmental Quality's NEPA regulations [40 CFR 1506.6(f)], and other Service and Departmental policies and procedures. When requested, the Service generally provides comment letters with the names and addresses of the individuals who wrote the comments. However, if the commenter requests that his or her telephone number be withheld, we will honor such requests to the extent permissible by law. Additionally, public comment letters are not required to contain the commentator's name, address, or other identifying information. Such comments may be submitted anonymously to the Service.

The environmental review of this project will be conducted in accordance with the requirements of the National Environmental Policy Act of 1969, as amended (42 U.S.C. 4321 et seq.), NEPA Regulations (40 CFR 1500-1508), other appropriate Federal laws and regulations, and Service policies and procedures for compliance with those regulations.

Dated: June 23, 2004.
William F. Shake,
Acting Regional Director, U.S. Fish and Wildlife Service, Region 1, Portland, Oregon.

[FR Doc. 04-16490 Filed 7-22-04; 8:45 am]

BILLING CODE 4310-55-P